DEPARTMENT OF HOUSING AND URBAN DEVELOPMENT

[Docket No. FR-5750-N-51]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301)-443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202)- 720-8873; AIR FORCE: Mr. Robert E. Moriarty, P.E., AFCEC/CI, 2261 Hughes Avenue, Ste. 155, JBSA Lackland TX 78236-9853; GSA: Mr. Flavio Peres, General Services Administration, Office of Real Property Utilization and Disposal, 1800 F Street NW., Room 7040, Washington, DC 20405, (202) 501-0084; INTERIOR: Mr. Michael Wright, Acquisition & Property Management, Department of the Interior, 3960 N. 56th Ave. #104, Hollywood, FL. 33021; (443) 223-4639; NAVY: Mr. Steve Matteo, Department of the Navy, Asset Management Division, Naval Facilities Engineering Command, Washington Navy Yard, 1330 Patterson Ave. SW., Suite 1000, Washington, DC 20374, (202)-685-9426 (These are not toll-free numbers).

Dated: December 11, 2014.
Brian P. Fitzmaurice,
Director, Division of Community Assistance, Office of Special Needs Assistance Programs.

Title V, Federal Surplus Property Program Federal Register Report for 12/19/2014

Suitable/Available Properties

Building

Arizona

San Carlos Irrigation Project

BIA Old Main Office Bldg.

255 W. Roosevelt

Coolidge AZ 85128

Landholding Agency: GSA

Property Number: 54201440008

Status: Surplus

GSA Number: 9-I-AZ-1706-AA

Directions: Disposal Agency; GSA; Landholding Agency: Bureau of Indian Affairs.

Comments: 83+ yrs. old; 6,745 sq. ft. ; 36mos. vacant; residential and commercial; brick structure; fair condition; asbestos & lead based paint; contact GSA for more information.

Nevada

2 Buildings

Nellis AFB

Nellis NV 89191

Landholding Agency: Air Force

Property Number: 18201440019

Status: Unutilized

Directions: 727 (15,803 sq. ft.); 729 (19,137 sq. ft.).

Comments: Fair to moderate conditions; dorm; 38+ yrs.-old; asbestos; escort/base pass required to access; contact Air Force for more information.

7 Buildings

Nellis AFB

Nellis NV 89191

Landholding Agency: Air Force

Property Number: 18201440020

Status: Underutilized

Directions: 432; 10237; 10236; 10235; 589; 258; 415

Comments: Sq. ft. varies; fair to moderate conditions; asbestos; escort/base pass required to access; contact Air Force for more information.

Texas

Naval Air Station Corpus

Christi

Doct. Storage, Bldg. 145

Corpus Christi TX 78419-5021

Landholding Agency: Navy

Property Number: 77201440023

Status: Excess

Comments: 30+ yrs. old; 6,000 sq. ft.; storage; poor condition; contact Navy for more information & accessibility.

Washington

Fruit Handling Bldg. 1

1104 N. Western Ave. Asset ID 535000B001/

RPUID 03.54625

Wenatchee WA 98801

Landholding Agency: Agriculture

Property Number: 15201440006

Status: Underutilized

Comments: 47+ yrs. old; 3,200 sq. ft.; storage; fair condition; steel; located on WSU campus; contact Agriculture of more information & accessibility.

Chinook Pass WC 3 Br Res

1107.00551 0767200

171137 Washington 410

Naches WA 98937

Landholding Agency: Agriculture

Property Number: 15201440008

Status: Excess

Comments: 54+ yrs.-old; 1,300 sq. ft.; stick built; residential; 128+ months vacant; roof need repairs; contact Agriculture for more information.

Land

Nevada

Ditchrider Sorensen Road

2105 Sorensen Road

Fallon NV 89406

Landholding Agency: GSA

Property Number: 54201440006

Status: Surplus

GSA Number: 9-I-NV-0572-AB

Directions: Disposal Agency; GSA; Landholding Agency; Interior.

Comments: 2.73 acres; formerly used us contractor/employee housing structure removal from the land 02/2011. Contact GSA for more information.

Ditchrider South East Street

207 South East St.

Fallon NV 89406

Landholding Agency: GSA

Property Number: 54201440007

Status: Surplus

GSA Number: 9-I-NV-0572-AA

Directions: Disposal Agency; GSA; Land Holding Agency; Interior.

Comments: 0.32 acres; formerly used us contractor/employee housing structure demolished on land 02/2011. Contact GSA for more information.

Unsuitable Properties

Building

California

8 Buildings

Beale AFB

Beale CA 95903

Landholding Agency: Air Force

Property Number: 18201440022

Status: Unutilized

Directions: 5109; 5110; 5111; 5112; 5113; 5116; 1152; 1226

Comments: Public access denied and no alternative method to gain access w/out compromising national security.

Reasons: Secured Area

3 Buildings

6425 & 4790 B St., 17430 Dolittle

Beale CA 95903

Landholding Agency: Air Force

Property Number: 18201440023

Status: Excess

Directions: 2539; 2538; 2540

Comments: Public access denied and no alternative method to gain access w/out compromising national security.

Reasons: Secured Area

7 Buildings

Air Force Plant 42

Palmdale CA

Landholding Agency: Air Force

Property Number: 18201440025

Status: Unutilized

Directions: 326; 322; 321; 318; 317; 313; 311A

Comments: Public access denied and no alternative method to gain access w/out compromising national security.

Reasons: Secured Area

Colorado

Bldg. 161

Peterson AFB

Peterson CO 80914

Landholding Agency: Air Force

Property Number: 18201440014

Status: Unutilized

Comments: Entire property located w/in airfield runway clear zone; public access denied and no alternative method to gain access w/out compromising national security.

Reasons: Within airport runway clear zone; Secured Area

Florida

561

Patrick AFB

Patrick FL 32925

Landholding Agency: Air Force

Property Number: 18201440016

Status: Unutilized

Comments: Entire property located w/in airfield runway clear zone; public access denied and no alternative method to gain access w/out compromising national security.

Reasons: Within airport runway clear zone; Secured Area

Georgia

4 Buildings

Robins AFB

Robins GA 31098

Landholding Agency: Air Force

Property Number: 18201440017

Status: Unutilized

Directions: 272; 273; 312; 614

Comments: Public access denied and no alternative method to gain access w/out compromising national security.

Reasons: Secured Area

2 Buildings

Robins AFB

Robins GA 31098

Landholding Agency: Air Force

Property Number: 18201440018

Status: Underutilized

Directions: 327; 262

Comments: Public access denied and no alternative method to gain access w/out compromising national security.

Reasons: Secured Area

Kansas

1129

McConnell AFB

Wichita KS 67221

Landholding Agency: Air Force

Property Number: 18201440015

Status: Underutilized

Comments: Public access denied and no alternative method to gain access w/out compromising national security.

Reasons: Secured Area

Louisiana

B-9402

100 Warrior Center Rd.

Barksdale LA

Landholding Agency: Air Force

Property Number: 18201440021

Status: Unutilized

Comments: Public access denied and no alternative method to gain access w/out compromising national security.

Reasons: Secured Area

Maryland

3602

Joint Base Andrews

JBA MD 20762

Landholding Agency: Air Force

Property Number: 18201440024

Status: Unutilized

Comments: Public access denied and no alternative method to gain access w/out compromising national security.

Reasons: Secured Area

Michigan

Building 970

44370 N. Jefferson Ave.

Selfridge ANGB MI 48045

Landholding Agency: Air Force

Property Number: 18201440028

Status: Unutilized

Comments: Public Access denied & no alternative method to gain access w/out compromising Nat'l Security.

Reasons: Secured Area

Building 826—Bowling Alley

43467 N. Jefferson Ave.

Selfridge ANGB MI 48045

Landholding Agency: Air Force

Property Number: 18201440029

Status: Unutilized

Comments: Public access denied & no alternative method to gain access w/out compromising Nat'l Security.

Reasons: Secured Area

Building 1540

Selfridge ANGB

Selfridge ANGB MI 48045

Landholding Agency: Air Force

Property Number: 18201440030

Status: Unutilized

Comments: Public access denied & no alternative method to gain access w/out compromising Nat'l Security.

Reasons: Secured Area

Building 699

Selfridge ANGB

Selfridge ANGB MI 48045

Landholding Agency: Air Force

Property Number: 18201440031

Status: Unutilized

Comments: Public access denied & no alternative method to gain access w/out compromising Nat'l Security.

Reasons: Secured Area

Nevada

Bldg. 400

Creech AFB

Creech NV 89018

Landholding Agency: Air Force

Property Number: 18201440013

Status: Underutilized

Comments: Entire property located in floodway; not corrected or contained.

Reasons: Floodway

New Jersey

3 Buildings

Joint Base McGuire Dix Lakehurst

Ft. Dix NJ 08640

Landholding Agency: Air Force

Property Number: 18201440012

Status: Unutilized

Directions: 5201; 5202; 5203

Comments: Public access denied and no alternative method to gain access w/out compromising national security.

Reasons: Secured Area

South Dakota

7806

Ellsworth AFB

Ellsworth SD 57706

Landholding Agency: Air Force

Property Number: 18201440009

Status: Underutilized

Comments: Public access denied and no alternative method to gain access w/out compromising national security.

Reasons: Secured Area

601

Ellsworth AFB

Ellsworth SD 57706

Landholding Agency: Air Force

Property Number: 18201440010

Status: Underutilized

Comments: Entire property located w/in airfield runway; public access denied and no alternative method to gain access w/out compromising national security.

Reasons: Secured Area; Within airport runway clear zone

5 Buildings

Ellsworth AFB

Ellsworth SD 57706

Landholding Agency: Air Force

Property Number: 18201440011

Status: Unutilized

Directions: 3008; 3009; 3006; 3010; 3014

Comments: Entire property located in floodway; not corrected or contained; public access denied and no alternative method to gain access w/out compromising national security.

Reasons: Floodway; Secured Area

Tennessee

Wears Valley Quarters/

Ranger Station

3443 Wears Valley Road

Sevierville TN 37862

Landholding Agency: Interior

Property Number: 61201440014

Status: Unutilized

Comments: Documented deficiencies structurally unsound; extensive deterioration; severe mold infestation; represents a clear threat to personal physical safety.

Reasons: Extensive deterioration

Texas

87

Air Force Plant 4

Ft. Worth TX

Landholding Agency: Air Force

Property Number: 18201440026

Status: Underutilized

Comments: Public access denied and no alternative method to gain access w/out compromising national security.

Reasons: Secured Area

127

Air Force Plant 4

Ft. Worth TX

Landholding Agency: Air Force

Property Number: 18201440027

Status: Unutilized

Comments: Public access denied and no alternative method to gain access w/out compromising national security.

Reasons: Secured Area

Land

Indiana

Bryant Creek Access Site

State Road 156

Patriot IN 47038

Landholding Agency: GSA

Property Number: 54201440009

Status: Excess

GSA Number: 1-D-IN-608

Directions: Disposal Agency: GSA; Landholding Agency: COE

Comments: Entire property located within floodway which has not been corrected or contained.

Reasons: Floodway

North Carolina

Photovoltaic (PV) Building

Site 45

Marine Corps Base Camp Lejeune

Camp Lejeune NC

Landholding Agency: Navy

Property Number: 77201440024

Status: Unutilized

Comments: Public access denied and no alternative method to gain access w/out compromising Nat'l Security.

Reasons: Secured Area

[FR Doc. 2014-29458 Filed 12-18-14; 8:45 am]

BILLING CODE 4210-67-P